FEDERAL RETIREMENT THRIFT INVESTMENT BOARD

Employee Thrift Advisory Council; Open Meeting

In accordance with section 10(a)(2) of the Federal Advisory Committee Act (Pub. L. 92-463), a notice is hereby given of the following committee meeting:

Name: Employee Thrift Advisory Council.

Time: 2 p.m.

Date: February 11, 2002.

Place: 4th Floor, Conference Room, Federal Retirement Thrift Investment Board, 1250 H Street, NW., Washington, DC.

Status: Closed.

Matter To Be Considered: Litigation.

For further information, contact Elizabeth S. Woodruff, Committee Management Officer, on (202) 942-1660.

Dated: January 31, 2002.
Elizabeth S. Woodruff
General Counsel, Federal Retirement Thrift Investment Board.

[FR Doc. 02-2809 Filed 2-5-02; 8:45 am]

BILLING CODE 6760-01-M